DEPARTMENT OF HEALTH AND HUMAN SERVICES

National Institutes of Health

National Cancer Institute; Amended Notice of Meeting

Notice is hereby given of a change in the meeting of the National Cancer Institute Special Emphasis Panel; NCI Program Project (P01) Review SEP-C, June 20, 2024, 9:00 a.m. to June 21, 2024, 6:00 p.m., NCI Shady Grove, 9609 Medical Center Drive, Rockville, Maryland, 20850 which was published in the Federal Register on March 18, 2024, FR Doc. 2024-05654, 89 FR 19330.

This notice is being amended to change the meeting title from NCI Program Project (P01) Review SEP-C to NCI Program Project (P01) Review SEP-D. The meeting date, time, and location will stay the same. The meeting is closed to the public.

Dated: April 16, 2024.
Melanie J. Pantoja,
Program Analyst, Office of Federal Advisory Committee Policy.

[FR Doc. 2024-08483 Filed 4-19-24; 8:45 am]

BILLING CODE 4140-01-P